DEPARTMENT OF THE INTERIOR

National Park Service

Joshua Tree National Park Advisory Commission, Notice of Meeting

Notice is hereby given in accordance with the Federal Advisory Committee Act that a meeting of the Joshua Tree National Park Advisory Commission (Commission) will be held from 10:00 am (PDT) until 2:00 pm on Saturday, June 17, 1999, at the Helen Gray Center, on Whitefeather Drive in the community of Joshua Tree, California. The Commission will hear reports on the Climbing Committee, the Wilderness Sustainability Study, Implementation of the Trails Plan, Line Item Construction for the West Entrance Visitor Center, the Learning Center and the Desert Institute.

The Commission was established by Public Law 103-433, section 107 to advise the Secretary concerning the development and implementation of a new or revised comprehensive management plan Joshua Tree National Park.

Members of the Commission include:

Mr. Chuck Bell, Planner

Ms. Cyndie Bransford, Recreational Climbing Interest

Ms. Marie Brashear, Mining Interest

Mr. Gary Daigneault, Property Owner/Business Interest

Hon. Kathy Davis, County of San Bernardino

Mr. John Freter, Property Owner Interest

Mr. Brian Huse, Conservation

Mr. Julian McIntyre, Conservation

Mr. Roger Melanson, Equestrian Interest

Mr. Ramon Mendoza, Native American Interest

Ms. Leslie Mouriquand, Planner

Mr. Richard Russell, All Wheel Drive Vehicle Interest

Ms. Lynne Shmakoff, Property Owner Interest

Hon. Roy Wilson, County of Riverside

Mr. Gilbert Zimmerman, Tourism

Included on the agenda for this public meeting will be:

Discussion of the Backcountry and Wilderness Management Plan.

• Primitive Auto Camping (i.e. study, Environmental Assessment, funding).

• Artificial Water Sources (i.e. study, Environmental Assessment, funding).

The meeting is open to the public and will be recorded for documentation and transcribed for dissemination. Minutes of the meeting will be available to the public after approval of the full Advisory Commission. For copies, please contact Superintendent, Joshua Tree National Park, 74485 National Park Drive, Twentynine Palms, California 92277 at (760)367-5502.

Dated: May 11, 2000.
Ernest Quintana,
Superintendent.

[FR Doc. 00-13377 Filed 5-26-00; 8:45 am]

BILLING CODE 4310-70-P